COMMODITY FUTURES TRADING COMMISSION

17 CFR Parts 1, 145 and 147

RIN 3038-AC05

Alternative Market Risk and Credit Risk Capital Charges for Futures Commission Merchants and Specified Foreign Currency Forward and Inventory Capital Charges

AGENCY: Commodity Futures Trading Commission.

ACTION: Reopening comment period.

SUMMARY: The Commodity Futures Trading Commission (“Commission”) is reopening the comment period for interested parties to comment on proposed amendments to Parts 1, 145 and 147 of the Commission's regulations.

DATES: Written comments must be received on or before November 30, 2005.

ADDRESSES: You may submit comments by any of the following methods:

• Federal eRulemaking Portal: http://www.regulations.gov. Follow the instructions for submitting comments.

• E-mail secretary@cftc.gov. Include “Proposed Amendment to Rule 1.17” in the subject line of the message.

• Fax: (202) 418-5521.

• Mail: Send to Jean A. Webb, Secretary of the Commission, Commodity Futures Trading Commission, 1155 21st Street, NW., Washington, DC 20581.

• Courier: Same as Mail above.

All comments received will be posted without change to http://www.cftc.gov, including any personal information provided.

FOR FURTHER INFORMATION CONTACT: Thomas J. Smith, Deputy Director and Chief Accountant, at (202) 418-5430, or Thelma Diaz, Special Counsel, at (202) 418-5137, Division of Clearing and Intermediary Oversight, Commodity Futures Trading Commission, Three Lafayette Centre, 1155 21st Street, NW., Washington, DC 20581. Electronic mail: (tsmith@cftc.gov) or (tdiaz@cftc.gov).

SUPPLEMENTARY INFORMATION: On October 11, 2005, the Commission published a notice of proposed rulemaking that sought comment on proposed amendments to Commission Regulations 1.10(h), 1.17(c), 145.5, and 147.3.¹ The proposed amendments, if adopted, would permit qualifying futures commission merchants (“FCMs”) that are also registered as securities broker-dealers (“BDs”) to use certain alternative capital charges approved by the Securities and Exchange Commission (“SEC”). The proposed amendments also addressed confidential treatment for the new reports and statements that FCM/BDs using the alternative capital charges would be required to file, and also addressed the confidential treatment of certain other information that all FCM/BDs must file with both the Commission and the SEC. The release published in the Federal Register also included proposed amendments to reduce the capital deductions specified in Regulation 1.17 for uncovered inventory or forward contracts in specified foreign currencies.²

¹ 70 FR 58985 (October 11, 2005). The Commission also proposed conforming amendments to Regulations 1.10(d)(4)(ii), 1.10(f)(1), 1.16(c)(5), 1.18(a) and (b)(2), and 1.52(a).

² The RIN Number for the release published in the Federal Register on October 11, 2005 was identified as 3038-AC19. The correct RIN Number, 3038-AC05, has been used in this release.

The Commission established a 30-day period for submitting public comment on the proposed amendments, ending November 10, 2005. By letter dated November 9, 2005, an association of securities industry participants, whose members include firms that are registered as FCMs and BDs, requested an extension of the original comment period.³ In response to this request, and in order to ensure that an adequate opportunity is provided for submission of meaningful comments, the Commission has determined to reopen the comment period on the proposed amendments until seven days from the date of publication of this notice in the Federal Register.

³ A copy of the letter is available on the Commission's Web site at http://www.cftc.gov.

Issued in Washington, DC, on November 17, 2005, by the Commission.
Jean A. Webb,
Secretary of the Commission.

[FR Doc. 05-23148 Filed 11-22-05; 8:45 am]

BILLING CODE 6351-01-M